NUCLEAR REGULATORY COMMISSION

Advisory Committee on Reactor Safeguards (ACRS); Meeting of the ACRS Subcommittee on Radiation Protection and Nuclear Materials

The ACRS Subcommittee on Radiation Protection and Nuclear Materials will hold a meeting on May 18, 2010, Room T-2B1, 11545 Rockville Pike, Rockville, Maryland. The entire meeting will be open to public attendance. The agenda for the subject meeting shall be as follows:

Tuesday, May 18, 2010—8:30 a.m. until 12 p.m.

The Subcommittee will discuss the Rulemaking on 10 CFR part 40 (Proposed Rulemaking on Distribution of Source Material to Exempt Persons and to General Licensees and Revision of General License and Exemptions) amending 10 CFR parts 30, 40, 70, 170, and 171. These proposed amendments add new specific licensing requirements, reporting requirements, and fees for the initial distribution of products and materials containing source material for receipt under an exemption or the general license in § 40.22, “Small quantities of source material.” Source material is uranium and thorium or ores containing uranium and thorium in concentrations greater than 0.05 percent by weight of the uranium or thorium. In addition, the proposed amendments modify the existing possession and use requirements for the general license in § 40.22 to better align the requirements with current health and safety standards. Finally, the proposed amendments revise, clarify, or delete certain licensing exemptions (also known as “unimportant quantities”) in order to make the requirements for those exemptions more risk informed.

The Subcommittee will hear presentations by and hold discussions with representatives of the NRC staff, stakeholders, and other interested persons regarding this matter. The Subcommittee will gather information, analyze relevant issues and facts, and formulate proposed positions and actions, as appropriate, for deliberation by the Full Committee.

Members of the public desiring to provide oral statements and/or written comments should notify the Designated Federal Official (DFO), Mr. Neil Coleman (Telephone 301-415-7656 or E-mail Neil.Coleman@NRC.gov) five days prior to the meeting, if possible, so that appropriate arrangements can be made. Thirty-five hard copies of each presentation or handout should be provided to the DFO thirty minutes before the meeting. In addition, one electronic copy of each presentation should be e-mailed to the DFO one day before the meeting. If an electronic copy cannot be provided within this timeframe, presenters should provide the DFO with a CD containing each presentation at least thirty minutes before the meeting. Electronic recordings will be permitted only during those portions of the meeting that are open to the public. Detailed procedures for the conduct of and participation in ACRS meetings were published in the Federal Register on October 14, 2009 (74 FR 58268-58269).

Detailed meeting agendas and meeting transcripts are available on the NRC Web site at http://www.nrc.gov/reading-rm/doc-collections/acrs. Information regarding topics to be discussed, changes to the agenda, whether the meeting has been canceled or rescheduled, and the time allotted to present oral statements can be obtained from the Web site cited above or by contacting the identified DFO. Moreover, in view of the possibility that the schedule for ACRS meetings may be adjusted by the Chairman as necessary to facilitate the conduct of the meeting, persons planning to attend should check with these references if such rescheduling would result in a major inconvenience.

Dated: May 6, 2010.
Antonio Dias,
Chief, Reactor Safety Branch B, Advisory Committee on Reactor Safeguards.

[FR Doc. 2010-11823 Filed 5-17-10; 8:45 am]

BILLING CODE 7590-01-P